DEPARTMENT OF HOMELAND SECURITY

Coast Guard

33 CFR Part 117

[Docket No. USCG-2015-0122]

Drawbridge Operation Regulation; Curtis Creek, Baltimore, MD

AGENCY: Coast Guard, DHS.

ACTION: Notice of deviation from drawbridge regulations.

SUMMARY: The Coast Guard has issued a temporary deviation from the operating schedule that governs the I-695 Bridge across Curtis Creek, mile 1.0, Baltimore, MD. This temporary deviation allows the drawbridge to remain in the closed to navigation position to facilitate an interim structural inspection and an in-depth electrical/mechanical inspection.

DATES: This deviation is effective from 8 a.m. on April 13, 2015 to 5 p.m. on May 8, 2015.

ADDRESSES: The docket for this deviation, [USCG-2015-0122] is available at http://www.regulations.gov. Type the docket number in the “SEARCH” box and click “SEARCH.” Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Ms. Kashanda Booker, Bridge Administration Branch, Fifth District, Coast Guard; telephone (757) 398-6227, email Kashanda.l.booker@uscg.mil. If you have questions on reviewing the docket, call Cheryl Collins, Program Manager, Docket Operations, 202-366-9826.

SUPPLEMENTARY INFORMATION: The Maryland Transportation Authority, who owns and operates this drawbridge, has requested a temporary deviation from the current operating regulations set out in 33 CFR 117.557 to facilitate an interim structural inspection and an in-depth electrical/mechanical inspection.

Under the regular operating schedule, the I-695 Bridge draw must open on signal if at least one hour notice is given. The bridge has a vertical clearance in the closed position to vessels of 58 feet above mean high water.

Under this temporary deviation, the drawbridge will be maintained in the closed to navigation position daily between 8 a.m. and 5 p.m. but will be able to open for navigation with a 2 hour advance notice by contacting (410) 354-1374 or utilizing VHF Channel 13/16.

The bridge will operate under the normal operating schedule at all other times. Emergency openings can be provided with advance notice by contacting (410) 354-1374 or utilizing VHF Channel 13/16. There are no alternate routes for vessels transiting this section of the Curtis Creek.

Curtis Creek is used by a variety of vessels including military, tugs, commercial, and recreational vessels. The Coast Guard has carefully coordinated the restrictions with these waterway users. The Coast Guard will also inform additional waterway users through our Local and Broadcast Notice to Mariners of the closure periods for the bridge so that vessels can arrange their transits to minimize any impacts caused by the temporary deviation. Mariners able to pass under the bridge in the closed position may do so at any time. However, mariners are advised to proceed with caution.

In accordance with 33 CFR 117.35(e), the drawbridge must return to its regular operating schedule immediately at the end of the designated time period. This deviation from the operating regulations is authorized under 33 CFR 117.35.

Dated: March 30, 2015.
James L. Rousseau,
Bridge Program Manager, Fifth Coast Guard District.

[FR Doc. 2015-08343 Filed 4-9-15; 8:45 am]

BILLING CODE 9110-04-P